DEPARTMENT OF COMMERCE

National Oceanic and Atmospheric Administration

[RTID 0648-XD924]

Mid-Atlantic Fishery Management Council; Public Meeting

AGENCY: National Marine Fisheries Service (NMFS), National Oceanic and Atmospheric Administration (NOAA), Commerce.

ACTION: Notice; public meeting.

SUMMARY: A sub-panel of the Mid-Atlantic and New England Fishery Management Councils' Scientific and Statistical Committees (SSC) and the Atlantic States Marine Fisheries Commission (ASMFC) Assessment Science Committee will hold a meeting.

DATES: The meeting will be held on Wednesday, May 22, 2024, starting at 9:30 a.m. and continue through 12:30 p.m. on Friday, May 24, 2024. See SUPPLEMENTARY INFORMATION for agenda details.

ADDRESSES: This will be an in-person meeting with a virtual option. Participants and members of the public will have the option to participate in person at the Northeast Fisheries Science Center Narragansett Lab, 28 Tarzwell Drive, Narragansett, RI, or virtually via webinar. Webinar connection instructions and briefing materials will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The joint sub-panel, consisting of Mid-Atlantic and New England SSC members and ASMFC Assessment Science Committee members, will meet to review and provide input on the Northeast Fisheries Science Center (NEFSC) draft survey mitigation plans relative to offshore wind development. NOAA Fisheries and the Bureau of Ocean Energy Management (BOEM) developed the Federal Survey Mitigation Strategy (Strategy) which describes the impacts of wind energy development on fisheries-independent surveys and outlines the goals, objectives, and actions to guide the development and implementation of a program to mitigate the impacts on fisheries-independent surveys. To address the actions outlined in the Strategy, the NEFSC developed the Northeast Survey Mitigation Program and survey-specific mitigation plans to ensure NEFSC can continue to provide equal or higher quality science for each of the long-term, recurring surveys conducted by NEFSC that will be impacted by offshore wind development. The survey mitigation plans include descriptions of the impacted survey, specific stakeholders for the data collected, impacts of offshore wind development, and planned mitigation measures to address the impacts of wind energy development on scientific surveys.

To ensure the survey mitigation plans represent the best science available, the joint sub-panel will peer review the draft survey mitigation plans prepared by the NEFSC for eight existing fishery-independent surveys and three new supplemental surveys. The sub-panel will evaluate the detail and scientific soundness of the mitigation approaches described in each plan, following a set of Terms of Reference. The NEFSC will consider the feedback received from the sub-panel and will address and/or incorporate into revised survey mitigation plans as appropriate.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C 1801 et seq.

Dated: May 1, 2024.
Rey Israel Marquez,
Acting Deputy Director, Office of Sustainable Fisheries, National Marine Fisheries Service.

[FR Doc. 2024-09765 Filed 5-3-24; 8:45 am]

BILLING CODE 3510-22-P